DEPARTMENT OF STATE

[Public Notice 11948]

Cultural Property Advisory Committee; Notice of Meeting

SUMMARY: The Department of State announces the location, dates, times, and agenda for the next meeting of the Cultural Property Advisory Committee (“the Committee”).

DATES: The Committee will meet January 30-February 2, from 9 a.m. to 5 p.m. (EST).

ADDRESSES: The Committee will meet at 2201 C Street NW, Washington, DC 20520. The public will participate via videoconference.

Participation: The public may participate in, or observe, the virtual open session on January 30, 2023, from 4 p.m. to 5 p.m. (EST). More information below.

FOR FURTHER INFORMATION CONTACT: Allison Davis, Bureau of Educational and Cultural Affairs—Cultural Heritage Center, (202-702-1166) (culprop@state.gov).

SUPPLEMENTARY INFORMATION: The Assistant Secretary of State for Educational and Cultural Affairs calls a hybrid meeting of the Cultural Property Advisory Committee (“the Committee”) in accordance with the Convention on Cultural Property Implementation Act (19 U.S.C. 2601-2613) (“the Act”). A portion of this meeting will be closed to the public pursuant to 5 U.S.C. 552b(c)(9)(B) and 19 U.S.C. 2605(h).

Meeting Agenda: The Committee will review the proposed extension and amendment of an agreement with the Government of the Kingdom of Cambodia, review a request from the Government of the Republic of North Macedonia seeking import restrictions on archaeological and ethnological materials, and review a request from the Government of Uzbekistan seeking import restrictions on archaeological and ethnological materials.

The Open Session: The general public can observe the virtual open session on January 30, 2023. Registered participants may provide oral comments for a maximum of five (5) minutes each. The Department provides specific instructions on how to observe or provide oral comments at the open session at https://eca.state.gov/highlight/cultural-property-advisory-committee-meeting-January-30-February-02-2023.

Oral Comments: Register to speak at the open session by sending an email with your name and organizational affiliation, as well as any requests for reasonable accommodation, to culprop@state.gov by January 23, 2023. Written comments are not required to make an oral comment during the open session.

Written Comments: The Committee will review written comments if received by 11:59 p.m. (EST) on January 23, 2023. Written comments may be submitted in two ways, depending on whether they contain confidential information:

General Comments: For general comments, use http://www.regulations.gov, enter the docket [DOS-2022-0048], and follow the prompts.

Confidential Comments: For comments that contain privileged or confidential information (within the meaning of 19 U.S.C. 2605(i)(1)), please email submissions to culprop@state.gov. Include “Cambodia”, “North Macedonia”, and/or “Uzbekistan” in the subject line.

Disclaimer: The Cultural Heritage Center website contains additional information about each agenda item, including categories of archaeological and ethnological material that may be included in import restrictions: https://eca.state.gov/highlight/cultural-property-advisory-committee-meeting-January-30-February-02-2023. Comments should relate specifically to the determinations specified in the Act at 19 U.S.C. 2602(a)(1). Written comments submitted via regulations.gov are not private and are posted at https://www.regulations.gov. Because written comments cannot be edited to remove any personally identifying or contact information, we caution against including any such information in an electronic submission without appropriate permission to disclose that information (including trade secrets and commercial or financial information that are privileged or confidential within the meaning of 19 U.S.C. 2605(i)(1)). We request that any party soliciting or aggregating written comments from other persons inform those persons that the Department will not edit their comments to remove any identifying or contact information and that they therefore should not include any such information in their comments that they do not want publicly disclosed.

Allison Davis,
Executive Director, Cultural Property Advisory Committee, Bureau of Educational and Cultural Affairs, Department of State.

[FR Doc. 2022-27736 Filed 12-20-22; 8:45 am]

BILLING CODE 4710-05-P